DEPARTMENT OF HOMELAND SECURITY

Coast Guard

33 CFR Part 165

[USCG-2012-0375]

RIN 1625-AA00

Safety Zone, Milwaukee Harbor, Milwaukee, WI

AGENCY: Coast Guard, DHS.

ACTION: Notice of enforcement of regulation.

SUMMARY: The Coast Guard will enforce the safety zone in Milwaukee Harbor, Milwaukee, WI for annual fireworks displays in the Captain of the Port, Lake Michigan zone at specified times from June 7, 2014, until September 6, 2014. This action is necessary and intended to ensure safety of life on the navigable waters immediately prior to, during, and immediately after fireworks displays. During the aforementioned periods, the Coast Guard will enforce restrictions upon, and control movement of, vessels in the safety zone. No person or vessel may enter the safety zone while it is being enforced without permission of the Captain of the Port, Lake Michigan.

DATES: The regulations in 33 CFR 165.935 will be enforced at specified times from June 7, 2014, through September 6, 2014.

FOR FURTHER INFORMATION CONTACT: If you have questions on this document, call or email MST1 Joseph McCollum, Prevention Department, Coast Guard Sector Lake Michigan, Milwaukee, WI at (414) 747-7148, email joseph.p.mccollum@uscg.mil.

SUPPLEMENTARY INFORMATION: The Coast Guard will enforce the safety zone listed in 33 CFR 165.935, Safety Zone, Milwaukee Harbor, Milwaukee, WI, at the following times for the following events:

(1) Pridefest fireworks display on June 7, 2014, from 9:15 p.m. until 10:15 p.m.;

(2) Polish Fest fireworks display on June 14, 2014, from 10:15 p.m. until 11:15 p.m.;

(3) Summerfest fireworks display on June 25, 2014, and July 2, 2014 from 9:15 p.m. until 10:30 p.m.;

(4) Festa Italiana fireworks display on each day of July 18, 19, and 20, 2014, from 10:15 p.m. until 11:15 p.m.;

(5) Arab World Festival fireworks display on August 9, 2014, from 9:15 p.m. until 10:15 p.m.;

(6) German Fest fireworks display on July 25, 2014, from 10:15 p.m. until 11:15 p.m.;

(7) Irish Fest fireworks display on August 17, 2014, from 10:15 p.m. until 11:15 p.m.;

(8) Indian Summer fireworks display on September 6, 2014, from 9:45 p.m. until 10:45 p.m.

This safety zone will encompass the waters of Lake Michigan within Milwaukee Harbor including the Harbor Island Lagoon enclosed by a line connecting the following points: beginning at 43°02′00″ N, 087°53′53″ W; then south to 43°01′44″ N, 087°53′53″ W; then east to 43°01′44″ N, 087°53′25″ W; then north to 43°02′00″ N, 087°53′25″ W; then west to the point of origin. All vessels must obtain permission from the Captain of the Port, Lake Michigan, or his or her on-scene representative to enter, move within, or exit the safety zone. Vessels and persons granted permission to enter the safety zone must obey all lawful orders or directions of the Captain of the Port, Lake Michigan, or his or her on-scene representative. This document is issued under authority of 33 CFR 165.935 Safety Zone, Milwaukee Harbor, Milwaukee, WI and 5 U.S.C. 552(a). In addition to this document in the Federal Register, the Coast Guard will provide the maritime community with advance notification of the enforcement period via broadcast Notice to Mariners or Local Notice to Mariners. The Captain of the Port, Lake Michigan, or his or her on-scene representative may be contacted via VHF Channel 16.

Dated: May 21, 2014.
M.W. Sibley,
Captain, U.S. Coast Guard, Captain of the Port, Lake Michigan.

[FR Doc. 2014-13147 Filed 6-4-14; 8:45 am]

BILLING CODE 9110-04-P